DEPARTMENT OF LABOR

Employment and Training Administration

[TA-W-40,267 and TA-W-40,267A]

Lamb Technicon, a Division of Unova, Warren, MI; Lamb Technicon, A Division of Unova, Lake Orion, MI; Amended Certification Regarding Eligibility To Apply for Worker Adjustment Assistance

In accordance with Section 223 of the Trade Act of 1974 (19 USC 2273) the Department of Labor issued a Notice of Certification Regarding Eligibility to Apply for Worker Adjustment Assistance on March 1, 2002, applicable to workers of Lamb Technicon, a Division of Unova, Warren, Michigan. The notice was published in the Federal Register on March 20, 2002 (67 FR 13013).

At the request of the company, the Department reviewed the certification for workers of the subject firm. Information shows that worker separations occurred at the Lake Orion, Michigan location of the subject firm when it closed in February, 2002. The Lake Orion, Michigan workers were engaged in the production of automated metal removal equipment, transfer lines and dial transfers.

Accordingly, the Department is amending the certification to include workers of Lamb Technicon, A Division of Unova, Lake Orion, Michigan.

The intent of the Department's certification is to include all workers of Lamb Technicon who were adversely affected by increased imports.

The amended notice applicable to TA-W-40,267 is hereby issued as follows:

All workers of Lamb Technicon, a Division of Unova, Warren, Michigan (TA-W-40,267) and Lake Orion, Michigan(TA-W-40,267A) who became totally or partially separated from employment on or after October 12, 2000, through March 1, 2004, are eligible to apply for adjustment assistance under Section 223 of the Trade Act of 1974.

Signed at Washington, DC this 3rd day of July, 2002.
Linda G. Poole,
Certifying Officer, Division of Trade Adjustment Assistance.

[FR Doc. 02-18069 Filed 7-17-02; 8:45 am]

BILLING CODE 4510-30-P